DEPARTMENT OF TRANSPORTATION

Federal Highway Administration

[Docket No. FHWA-2009-0113]

Agency Information Collection Activities: Request for Comments for New Information Collection

AGENCY: Federal Highway Administration (FHWA), DOT.

ACTION: Notice and request for comments.

SUMMARY: The FHWA invites public comments about our intention to request the Office of Management and Budget's (OMB) approval for a new information collection, which is summarized below under Supplementary Information. We are required to publish this notice in the Federal Register by the Paperwork Reduction Act of 1995.

DATES: Please submit comments by November 27, 2009.

ADDRESSES: You may submit comments identified by DOT Docket ID Number FHWA-2009-0113, by any of the following methods:

Web Site: For access to the docket to read background documents or comments received go to the Federal eRulemaking Portal: http://www.regulations.gov. Follow the online instructions for submitting comments.

Fax: 1-202-493-2251.

Mail: Docket Management Facility, U.S. Department of Transportation, West Building Ground Floor, Room W12-140, 1200 New Jersey Avenue, SE., Washington, DC 20590-0001.

Hand Delivery or Courier: U.S. Department of Transportation, West Building Ground Floor, Room W12-140, 1200 New Jersey Avenue, S.E., Washington, DC 20590, between 9 a.m. and 5 p.m., Monday through Friday, except Federal holidays.

FOR FURTHER INFORMATION CONTACT: For questions concerning the Truck Parking Initiatives Grant Program, please contact Thomas Kearney, Office of Freight Management and Operations, HOFM-1, at (518) 431-4125 ext. 218, Department of Transportation, 1200 New Jersey Avenue, SE, Washington, DC 20590. Office hours are from 7:45 a.m. to 4:15 p.m., Monday through Friday, except Federal holidays.

SUPPLEMENTARY INFORMATION: Title: Truck Parking Initiative .

OMB Control #: 2125-0610.

Background

The shortage of long-term truck parking on the National Highway System (NHS) is a problem that needs to be addressed. It is nationally recognized that truck drivers frequently cannot find adequate, safe parking in order to obtain rest needed to comply with the Federal Motor Carrier Safety Regulations and ensure safety. Further, parking areas are often designed or maintained for short-term parking only, and as a result, allow parking for limited time periods. Section 1305 of the Safe, Accountable, Flexible, Efficient, and Transportation Equity Act: A Legacy for Users (SAFETEA-LU) directed the Secretary of Transportation to establish a Pilot program to address the long-term parking shortages along the NHS. Eligible projects under Section 1305 include:

1. Promoting the real-time dissemination of publicly or privately provided commercial motor vehicle parking availability on the NHS using ITS and other means;

2. Opening non-traditional facilities to commercial motor vehicle parking, including inspection and weigh stations, and park and ride facilities;

3. Making capital improvements to public commercial motor vehicle parking facilities currently closed on a seasonal basis to allow the facilities to remain open year round;

4. Constructing turnouts along the NHS to facilitate commercial motor vehicle access to parking facilities, and/or improving the geometric design of interchanges to improve access to commercial motor vehicle parking facilities;

5. Constructing commercial motor vehicle parking facilities adjacent to commercial truck stops and travel plazas;

6. Constructing safety rest areas that include parking for commercial motor vehicles.

In considering the award of funds to projects applications, the Secretary was directed to give priority to projects that:

1. Demonstrate a severe shortage of commercial vehicle parking capacity in the corridor;

2. Have consulted with affected State and local governments, community groups, private providers of commercial vehicle parking and trucking and motorist organizations; and

3. Demonstrate that implementation will likely contribute to positive effects on highway safety, traffic congestion or air quality.

It is the belief of FHWA that, given the limited resources available, the broad dissemination of information regarding the availability of public or private long-term parking spaces provides the greatest opportunity to maximize the effectiveness of this pilot program.

Guidelines and Administration

To administer this program, the FHWA will collect information necessary to evaluate and rank projects. The information collection is intended to only address the project funding allotted through the program.

1. Projects funded under this section shall be treated as projects on a Federal-Aid System under Chapter 1 of Title 23, United States Code.

2. Grants may be funded at an 80 to 100 percent funding level based on the criteria specified in Section 120 of Title 23, U.S. Code.

As soon as practicable, a Federal Register Notice will be published with information and guidance relating to the application process. Also, a solicitation letter will be sent to all FHWA Division Offices containing the same information. This information will also be posted on the FHWA Web site, http://www.fhwa.dot.gov/. All applications must be submitted thru a State Department of Transportation to FHWA's Office of Freight Management and Operations, via the FHWA Division Office in the state in which the application was submitted. Awarded projects will be administered by the applicable State Department of Transportation as a Federal aid grant.

Information Proposed for Collection

Information recommended under SAFETEA-LU and proposed for the current program includes the following:

1. Project Description. The proposal should include a detailed project description, which would include the extent of the long-term truck parking shortage in the corridor/area to be addressed, along with contact information for the project's primary point of contact, and whether funds are being requested under 120 U.S.C. (b) or (c) of Title 23. Data helping to define the shortage may include truck volume (Average Daily Truck Traffic—ADTT) in the corridor to be addressed, current number of long-term commercial motor vehicle parking spaces, utilization of current long-term parking spaces, driver surveys, observational field studies, proximity to freight loading/unloading facilities, proximity to the NHS, etc.

2. Project Rationale. The proposal should set forth the rationale for the project and should include an analysis and demonstration of how the proposed project will positively affect truck parking, safety, traffic congestion, or air quality in the identified corridor. Examples may include: advance information on availability of parking that may help to reduce the number of trucks parked on roadsides and increase the utilization of available truck parking spaces, etc.

3. Scope of work. The scope of work should include a complete listing of activities to be funded through the grant; including technology development, information processing, information integration activities, developmental phase activities (planning, feasibility analysis, environmental review, engineering or design work, and other activities), construction, reconstruction, acquisition of real property (including land related to the project and improvements to land), environmental mitigation, construction contingencies, acquisition of equipment, and operational improvements. Also to be included should be a 3-year performance measurement plan that continues beyond the demonstration period of the project.

4. Stakeholder identification. Stakeholder identification should include evidence of prior consultation and/or partnership with affected Metropolitan Planning Organizations (MPO), local governments, community groups, private providers of commercial motor vehicle parking, and motorist and trucking organizations. It should include a listing of all public and private partners, and the role each will play in the execution of the project. Consultation examples may include: Memorandums of Agreement, Memorandums of Understanding, contracts, meeting minutes, letters of support/commitment, documentation in a Transportation Improvement Program (TIPS) or Statewide Transportation Improvement Program (STIPS) plans, etc.

5. Cost estimate. Applicants should provide a detailed quantification of eligible project costs by activity, an identification of all funding sources that will supplement the grant and be necessary to fully fund the project, and the anticipated dates on which the additional funds are to be made available. Public and private sources of funds (non-federal commitment) will be considered by FHWA as an in-kind match contributing to the project. State matching funds will be required for projects eligible under 120 U.S.C. (b).

6. Timeline. Applicants should also submit a timeline that includes work to be completed and anticipated funding cycles. Gantt charts are preferred.

7. Environmental process. Applicants should show the timeline for complying with the National Environmental Policy Act (NEPA), if applicable.

8. Project map. Applicants should include a project map consisting of schematic illustrations depicting the project and connecting transportation infrastructure.

9. Proposals should not exceed 20 pages in length.

Burden Hours for Information Collection

Frequency: Annual.

Respondents: The 50 State DOTs and Puerto Rico and the District of Columbia.

Estimated Average Burden per response: Burden hours estimates and discussions are provided for each item presented and required within the application submittal process.

• Project Description (16 hours)—The project description will be submitted through the submitting State agency, in conjunction with local governments, MPO's, and other potential partners.

• Project Rationale (8 hours)—Project rationale should include an analysis and demonstration of how the proposed project will positively effect truck parking, safety, traffic congestion, or air quality in the identified corridor.

• Scope of Work (6 hours)—A complete listing of activities to be funded through the grant; including technology development, information processing, information integration activities, developmental phase activities (planning, feasibility analysis, environmental review, engineering or design work, and other activities), construction, reconstruction, acquisition of real property (including land related to the project and improvements to land), environmental mitigation, construction contingencies, acquisition of equipment, operational improvements, and a 3 year performance measurement plan that continues beyond the demonstration period of the project.

• Stakeholder Identification (1 hour)—Evidence of prior consultation and/or partnership with affected MPOs, local governments, community groups, private providers of commercial motor vehicle parking, and motorist and trucking organizations. A listing of all public and private partners, and the role each will play in the execution of the project should also be included.

• Cost estimate (4 hours)—A detailed quantification of eligible project costs by activity, and an identification of all funding sources that will supplement the grant and be necessary to fully fund the project, and the anticipated dates on which the additional funds are to be made available. Public and private sources of funds (non-federal commitment) will be considered. State matching funds will be required for projects eligible under 120 U.S.C. (b).

• Project Timeline (1 hour 30 minutes)—That includes work to be completed and anticipated funding cycles. Gantt charts preferred

• Environmental process (2 hours)—Applicant should show the timeline for complying with the National Environmental Policy Act (NEPA), if applicable.

• Project Map (1 hour)—Consisting of schematic illustrations depicting the project and connecting transportation infrastructure.

• Contact information for the State DOT, Local Agency or MPO (if applicable), FHWA Division Office (5 minutes)—This requires providing a list of contacts and involves a nominal amount of time.

The total amount of time estimated to complete the application is 39 hours and 35 minutes.

Estimated Total Annual Burden Hours: 1187 hours and 30 minutes. It is estimated 30 applications will be processed annually.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued on November 20, 2009.
Tina Campbell,
Acting Chief, Management Programs, and Analysis Division.

[FR Doc. E9-28411 Filed 11-25-09; 8:45 am]

BILLING CODE P